ENVIRONMENTAL PROTECTION AGENCY

[FRL OP-OFA-164]

Environmental Impact Statements; Notice of Availability

Responsible Agency: Office of Federal Activities, General Information 202-564-5632 or https://www.epa.gov/nepa.

Weekly receipt of Environmental Impact Statements (EIS)

Filed January 27, 2025 10 a.m. EST Through February 3, 2025 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20250018, Final, NRCS, GA, Watershed Plan and Environmental Impact Statement for the Lower Little Tallapoosa River Watershed Structure No. 25A, Review Period Ends: 03/10/2025, Contact: Sharon Swagger 706-546-2203.

EIS No. 20250019, Final, NRC, SC, Site-Specific Environmental Impact Statement for Subsequent License Renewal of Oconee Nuclear Station, Units 1, 2, and 3 Second Renewal, Final Report, Review Period Ends: 03/10/2025, Contact: Lance Rakovan 301-415-2589.

Dated: February 3, 2025.
Nancy Abrams,
Associate Director, Office of Federal Activities.

[FR Doc. 2025-02364 Filed 2-6-25; 8:45 am]

BILLING CODE 6560-50-P